DEPARTMENT OF ENERGY

Federal Energy Regulatory Commission

Combined Notice of Filings #1

Take notice that the Commission received the following electric corporate filings:

Docket Numbers: EC11-41-001.

Applicants: Varde Management, L.P., Granite Ridge Holding, LLC 2, Granite Ridge Energy, LLC.

Description: Application of Granite Ridge Energy, LLC et al for Extension of Blanket Authorization.

Filed Date: 1/28/14.

Accession Number: 20140128-5068.

Comments Due: 5 p.m. ET 2/18/14.

Docket Numbers: EC14-48-000.

Applicants: Verso Androscoggin LLC, Verso Androscoggin Power LLC, Verso Bucksport LLC, Verso Bucksport Power LLC.

Description: Application For Authorization to Section 203 of the Federal Power Act and Requests for Confidential Treatment, Expedited Consideration and Waivers of Verso Androscoggin LLC, et al.

Filed Date: 1/28/14.

Accession Number: 20140128-5023.

Comments Due: 5 p.m. ET 2/18/14.

Take notice that the Commission received the following electric rate filings:

Docket Numbers: ER11-4613-002.

Applicants: DB Energy Trading LLC.

Description: Notice of Non-Material Change in Status of DB Energy Trading LLC.

Filed Date: 1/27/14.

Accession Number: 20140127-5209.

Comments Due: 5 p.m. ET 2/18/14.

Docket Numbers: ER13-483-001.

Applicants: Pacific Gas and Electric Company.

Description: Western WDT Settlement Compliance Filing to be effective 2/1/2013.

Filed Date: 12/20/13.

Accession Number: 20131220-5188.

Comments Due: 5 p.m. ET 2/18/14.

Docket Numbers: ER14-25-003.

Applicants: Prairie Breeze Wind Energy LLC.

Description: Compliance Filing of Prairie Breeze Wind Energy LLC.

Filed Date: 1/28/14.

Accession Number: 20140128-5111.

Comments Due: 5 p.m. ET 2/18/14.

Docket Numbers: ER14-630-001.

Applicants: AlphaGen Power LLC.

Description: Supplement to market-based rate application to be effective 2/15/2014.

Filed Date: 1/28/14.

Accession Number: 20140128-5003.

Comments Due: 5 p.m. ET 2/11/14.

Docket Numbers: ER14-1161-000.

Applicants: Milford Power Limited Partnership.

Description: Notice of Succession and Non-Material Change in Status to be effective 1/28/2014.

Filed Date: 1/27/14.

Accession Number: 20140127-5196.

Comments Due: 5 p.m. ET 2/18/14.

Docket Numbers: ER14-1162-000.

Applicants: Virginia Electric and Power Company.

Description: Petition of Virginia Electric and Power Company for Limited Waiver of the PJM Interconnection LLC Open Access Transmission Tariff and Request for Action by March 28, 2014.

Filed Date: 1/27/14.

Accession Number: 20140127-5213.

Comments Due: 5 p.m. ET 2/18/14.

Docket Numbers: ER14-1163-000.

Applicants: Southwest Power Pool, Inc.

Description: 2660 AEP Energy Partners Market Participant Agreement to be effective 3/1/2014.

Filed Date: 1/28/14.

Accession Number: 20140128-5036.

Comments Due: 5 p.m. ET 2/18/14.

Docket Numbers: ER14-1164-000.

Applicants: Southwest Power Pool, Inc.

Description: 2661 AEP Service Corporation Market Participant Agreement to be effective 3/1/2014.

Filed Date: 1/28/14.

Accession Number: 20140128-5039.

Comments Due: 5 p.m. ET 2/18/14.

Docket Numbers: ER14-1165-000.

Applicants: Southwest Power Pool, Inc.

Description: 2742 Oklahoma Gas & Electric Co Market Participant Agreement to be effective 3/1/2014.

Filed Date: 1/28/14.

Accession Number: 20140128-5044.

Comments Due: 5 p.m. ET 2/18/14.

Docket Numbers: ER14-1166-000.

Applicants: Southwest Power Pool, Inc.

Description: 2757 SPS Market Participant Agreement to be effective 3/1/2014.

Filed Date: 1/28/14.

Accession Number: 20140128-5062.

Comments Due: 5 p.m. ET 2/18/14.

Docket Numbers: ER14-1167-000.

Applicants: Josco Energy Corp.

Description: Josco Energy Corp. Cancellation of MBR Tariff to be effective 1/28/2014.

Filed Date: 1/28/14.

Accession Number: 20140128-5073.

Comments Due: 5 p.m. ET 2/18/14.

Docket Numbers: ER14-1168-000.

Applicants: Southwest Power Pool, Inc.

Description: 2778 Westar Energy, Inc. Market Participant Agreement to be effective 3/1/2014.

Filed Date: 1/28/14.

Accession Number: 20140128-5088.

Comments Due: 5 p.m. ET 2/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 28, 2014.
Nathaniel J. Davis, Sr.,
Deputy Secretary.

[FR Doc. 2014-02283 Filed 2-3-14; 8:45 am]

BILLING CODE 6717-01-P